DEPARTMENT OF THE INTERIOR

Bureau of Indian Affairs

[178A2100DD/AAKC001030/A0A501010.999900 253G]

Land Acquisitions; The Cherokee Nation

AGENCY: Bureau of Indian Affairs, Interior.

ACTION: Notice.

SUMMARY: The Principal Deputy Assistant Secretary—Indian Affairs made a final agency determination to acquire 51.35 acres, more or less, located in Sequoyah County, Oklahoma (the Parcels) in trust for the Cherokee Nation for gaming and other purposes on January 19, 2017.

FOR FURTHER INFORMATION CONTACT: Ms. Paula L. Hart, Director, Office of Indian Gaming, Bureau of Indian Affairs, MS-3657 MIB, 1849 C Street NW., Washington, DC 20240, telephone (202) 219-4066.

SUPPLEMENTARY INFORMATION: This notice is published in the exercise of authority delegated by the Secretary of the Interior to the Principal Deputy Assistant Secretary—Indian Affairs by 209 Departmental Manual 8.1, and is published to comply with the requirements of 25 CFR 151.12 (c)(2)(ii) that notice of the decision to acquire land in trust be promptly provided in the Federal Register.

On January 19, 2017, the Assistant Secretary—Indian Affairs issued a decision to accept the Parcels, consisting of approximately 51.35 acres, more or less, of land in trust for the Nation, under the authority of the Indian Reorganization Act, 25 U.S.C. 5108. The Principal Deputy Assistant Secretary—Indian Affairs determined that the Nation's request also meets the requirements of the Indian Gaming Regulatory Act's “Oklahoma exception,” 25 U.S.C. 2719(a)(2)(A)(i), to the general prohibition contained in 25 U.S.C. 2719(a) on gaming on lands acquired in trust after October 17, 1988.

The Principal Deputy Assistant Secretary—Indian Affairs, on behalf of the Secretary of the Interior, will immediately acquire title to the Parcels in the name of the United States of America in trust for the Nation upon fulfillment of Departmental requirements.

The 51.35 acres, more or less, are located in Sequoyah County, Oklahoma, and are described as follows:

A part of Section 23, Township 11 North, Range 26 East, I.B.&M., Sequoyah County, Oklahoma, more particularly described as follows:

Parcel 1 Truck/Travel Plaza 8.2 Acres

Tract A

Beginning at the NW corner of said S2 SW4 SW4; thence East along the North line of said S2 SW4 SW4 751.6 feet; thence South 02°40′ West 451.7 feet to a point on the North right of way line of a frontage road for U.S. Highway 64; thence along said right of way line South 89°50′ West 67.3 feet; thence South 01°31′ East 23.5 feet; thence South 88°29′ West 260.6 feet; thence North 81° 53′ West 51.0 feet; thence South 88°29′ West 353.3 feet to the West line of said S2 SW4 SW4; thence North 0°02′ East along said West line 483.9 feet to the Point of Beginning.

ALSO FURTHER DESCRIBED IN SURVEY Approved 10-13-2014 by Licensed Professional Land Surveyor #1199 Richard Wright as follows:

A Tract of land that is a part of the S/2 SW/4 SW/4 of Section Twenty-Three (23), Township Eleven (11) North, Range Twenty-Six (26) East of the Indian Meridian, Sequoyah County, State of Oklahoma, according to the United States Government Survey Thereof, being more particularly described as follows:

Commencing at the Northwest Corner of said SW/4; thence along the West Line thereof S. 04°09′44″ E. 1985.58 feet to the Northwest corner of said S/2 SW/4 SW/4, said Northwest corner being the Point of Beginning;

Thence along the North Line of said S/2 SW/4 SW/4 N. 86°16′37″ E. 751.58 feet; thence S. 01°18′13″ E. 456.76 feet to the North Right of Way of State Highway 64; thence along said Highway Right of Way the following five courses; thence S. 86°34′00″ W. 67.27 feet; thence S. 04°47′00″ E. 23.50 feet; thence S. 85°02′08″ W. 249.66 feet; thence N. 83°39′15″ W. 51.00 feet; thence S. 85°02′09″ W. 362.01 feet to the West line of said S/2 SW/4 SW/4; thence along said West Line N. 04°09′44″ W. 483.83 feet to the Point of Beginning, containing 8.13 acres more or less.

Basis of Bearing: Bearings Based True North, the West Line of the Southwest Quarter of Section 23, T11N, R26E Having a Bearing of N04°09′44″ W.

AND

Tract B

Commencing at the NW Corner of said S2 SW4 SW4; thence running East along the North line of said S2 SW4 SW4, 1257.11 feet; thence South 01°16′00″ West 250.28 feet to the Point of Beginning;

Thence South 88°44′00″ East 60.00 feet to the East line of said S2 SW4 SW4; thence South 01°16′00″ West along said East line 36.18 feet to the North right of way line of U.S. Highway 64 frontage road; thence South 69°37′00″ West along said right of way line 64.55 feet; thence North 01°16′00″ East 60.00 feet to the Point of Beginning.

ALSO FURTHER DESCRIBED IN SURVEY Approved 10-13-2014 by Licensed Professional Land Surveyor #1199 Richard Wright as follows:

A Tract of land that is a part of the S/2 SW/4 SW/4 of Section Twenty-Three (23), Township Eleven (11) North, Range Twenty-Six (26) East of the Indian Meridian, Sequoyah County, State of Oklahoma, according to the United States Government Survey Thereof, being more particularly described as follows:

Commencing at the Northwest Corner of said SW/4; thence along the West Line thereof S. 04°09′44″ E. 1985.58 feet to the Northwest corner of said S/2 SW/4 SW/4; thence along the North Line thereof N. 86°16′37″ E. 1324.38 feet to the East line of said S/2 SW/4 SW/4; thence along said East Line S04°11′12″ E. 253.32 feet to the point of Beginning;

Thence continuing along said East Line S04°11′12″ E. 36.22 feet to the North Right of Way of State Highway 64; thence along said Highway Right of Way S. 65°09′59″ W. 64.15 feet; thence leaving said Right of Way N. 04°11′12″ W. 60.00 feet; thence N. 86°51′17″ E. 60.00 feet to the Point of Beginning containing 0.07 acres more or less.

Basis of Bearing: Bearings Based True North, the West Line of the Southwest Quarter of Section 23, T11N, R26E Having a Bearing of N04°09′44″ W.

Parcel 2 Hotel 3.4 Acres

Beginning at a point 1,044.61 feet East of the NW corner of the S2 SW4 SW4; thence North 207 feet; thence South 86°28′59″ East 277.74 feet to the East line of said SW4 SW4; thence South 01°16′00″ West along said East line, 441.64 feet; thence North 88°44′00″ West 60.00 feet; thence South 01°16′00″ West 60.00 feet to the North right-of-way line of US. Highway 64 Frontage Road; thence South 69°37′00″ West along said Frontage Road 219.38 feet; thence North 386.61 feet to the POINT OF BEGINNING.

ALSO FURTHER DESCRIBED IN SURVEY Approved 10-13-2014 by Licensed Professional Land Surveyor #1199 Richard Wright as follows:

A Tract of land that is a part of the E/2 SW/4 SW/4 of Section Twenty-Three (23), Township Eleven (11) North, Range Twenty-Six (26) East of the Indian Meridian, Sequoyah County, State of Oklahoma, according to the United States Government Survey Thereof, being more particularly described as follows:

Commencing at the Northwest Corner of said SW/4; thence along the West Line thereof S 04°09′44″ E. 1985.58 feet to the Northwest corner of said S/2 SW/4 SW/4; thence along the North Line thereof N 86°16′37″ E. 1045.67 feet to the Point of Beginning;

Thence N. 04°01′38″ W. 205.68 feet; thence N. 89°45′38″ E. 278.78 feet to the East line of said S/2 SW/4 SW/4; thence along said East line S. 04°11′12″ E. 442.07 feet; thence leaving said East Line S. 86°51′17″ W. 60.00 feet; thence S. 04°11′12″ E. 60.00 feet to the north Highway Right of Way Line of State Highway 64; thence along said Highway Right of Way S. 65°05′59″ W. 234.98 feet; thence leaving said Right of Way N. 04°01′38″ W. 397.60 feet to the Point of Beginning containing 3.40 acres more or less.

Basis of Bearing: Bearings Based True North, the West Line of the Southwest Quarter of Section 23, T11N, R26E Having a Bearing of N04°09′44″ W.

Parcel 3 Land 3.36 Acres

Tract A

Beginning at an existing monument marking the NE corner of the SW4 SW4; Thence along the East line of said Forty Acres, South 02°08′14″ East 453.72 feet to a set rebar with cap; Thence leaving said East line, South 88°17′13″ West 278.41 feet; Thence South 01°44′16″ East 2.00 feet; Thence South 88°29′39″ West 39.95 feet to an existing p/k nail; Thence North 03°12′26″ West 456.02 feet to a set rebar with cap on the North line of the SW4 SW4; Thence along said North line North 88°20′22″ East 326.89 feet to the Point of Beginning.

ALSO FURTHER DESCRIBED IN SURVEY Approved 10-13-2014 by Licensed Professional Land Surveyor #1199 Richard Wright as follows:

A Tract of land that is a part of the E/2 SW/4 SW/4 of Section Twenty-Three (23), Township Eleven (11) North, Range Twenty-Six (26) East of the Indian Meridian. Sequoyah County, State of Oklahoma, according to the United States Government Survey Thereof, being more particularly described as follows:

Commencing at the Northwest Corner of said SW/4; thence along the West Line thereof S. 04°09′44″ E. 1323.76 feet to the Northwest corner of the SW/4 SW/4; thence along the North Line thereof N. 86°17′13″ E. 1009.38 feet to the Point of Beginning;

Thence continuing along said North line N. 86°17′13″ E. 314.71 feet to the Northeast corner of said SW/4 SW/4; thence along the East Line thereof S. 04°11′12″ E. 455.68 feet; thence leaving said East Line S 86°13′44″ W. 278.12 feet; thence S. 03°45′23″ E. 2.000 feet; thence S. 86°14′35″ W. 40.01 feet; thence N. 03°45′23″ W. 457.97 feet to the Point of Beginning containing 3.31 acres more or less.

Basis of Bearing: Bearings Based True North, the West Line of the Southwest Quarter of Section 23, T11N, R26E Having a Bearing of N04°09′44″ W.

AND

Tract B

Commencing at the NE corner of SW4 SW4; Thence South 02°07′21″ East along the East line of said SW a distance 453.72 feet to the Point of Beginning;

Thence continuing South 02°07′21″ East along said East line a distance of 17.15 feet; Thence North 88°12′18″ West a distance of 278.47 feet; Thence North 88°15′48″ East a distance of 277.83 feet to the Point of Beginning.

ALSO FURTHER DESCRIBED IN SURVEY Approved 10-13-2014 by Licensed Professional Land Surveyor #1199 Richard Wright as follows:

Commencing at the Northwest Corner of said SW/4; thence along the West Line thereof S. 04°09′44″ E. 1323.76 feet to the Northwest corner of the SW/4 SW/4; thence along the North Line thereof N. 86°17′13″ E. 1324.09 feet to the Northeast corner of said SW/4 SW/4; thence along the East Line of said SW/4 SW/4 S. 04°11′12″ E. 455.68 feet to the Point of Beginning;

Thence continuing along said East line S. 04°11′12″ E. 17.17 feet; thence S. 89°45′38″ W. 278.78 feet; thence N. 86°13′44″ E. 278.12 feet to the Point of Beginning containing 0.05 acres more or less.

Basis of Bearing: Bearings Based True North, the West Line of the Southwest Quarter of Section 23, T11N, R26E Having a Bearing of N04°09′44″ W.

Parcel 4 Land 36.39 Acres

Beginning at an existing monument marking the SW Corner of the NE4 SW4; Thence along the West line North 02°06′07″ West 661.46 feet to a set rebar with cap; Thence leaving said West line North 88°20′39″ East 1324.70 feet to a set rebar with cap on the East line of the NE4 SW4; Thence along the East line of the SW4 South 02°07′34″ East 1030.15 feet to a set rebar with cap on the North right of way line of Interstate 40; Thence leaving said East line and along said right of way line South 68°22′49″ West 89.84 feet to a right of way marker; Thence South 56°48′43″ West 249.44 feet to a right of way marker; Thence around a curve to the right having a radius of 1789.86 feet and subtended by a chord bearing and distance of South 59°38′43″ West 176.96 feet to a set rebar with cap; Thence leaving said right of way line North 02°07′33″ West 162.99 feet to a set rebar with cap; Thence South 88°20′39″ West 420 feet to a set rebar with cap; Thence South 02°07′33″ East 210 feet to a set rebar with cap; Thence South 88°20′39″ West 450.56 feet along the West line of the SE4 SW4; Thence along said West line North 02°08′14″ West 661.81 feet to the Point of Beginning.

ALSO FURTHER DESCRIBED IN SURVEY Approved 10-13-2014 by Licensed Professional Land Surveyor #1199 Richard Wright as follows:

A Tract of land that is a part of the E/2 SW/4 of Section Twenty-Three (23), Township Eleven (11) North, Range Twenty-Six (26) East of the Indian Meridian, Sequoyah County, State of Oklahoma, according to the United States Government Survey thereof, being more particularly described as follows:

Commencing at the Northwest Corner of said SW/4; thence along the West Line thereof S. 04°09′44″ E. 1323.76 feet to the Northwest corner of the SW/4 SW/4; thence along the North Line thereof N. 86°17′13″ E. 1324.09 feet to the Northeast corner of said SW/4 SW/4, said Northeast corner being the Point of Beginning; Thence along the West Line of said E/2 SW/4 N. 04°08′39″ W. 661.89 feet; thence leaving said West Line N. 86°17′55″ E. 1324.10 feet to the East Line of said SW/4; thence along said East Line S. 04°08′34″ E. 1030.53 feet to the North Right of Way of State Highway 64; thence along said Highway Right of Way the following three courses; thence S. 65°57′03″ W. 88.98 feet to a Concrete Right of Way Monument; Thence S. 54°46′36″ W. 249.44 feet to a Concrete Right of Way Monument; thence on a curve to the right having a radius of 1789.86 feet, an arc length of 177.03 feet, a chord bearing of S. 57°36′36″ W., and a chord length of 176.96 feet; thence leaving said Right of Way N. 03°55′59″ W. 163.08 feet; thence S. 86°18′50″ W. 419.94 feet; thence S. 04°08′51″ E. 209.99 feet; thence S. 86°19′08″ W. 451.05 feet to said West Line of E/2 SW/4; thence along said West Line N. 04°11′12″ W. 661.59 feet to the Point of Beginning, containing 36.39 acres more or less.

Basis of Bearing: Bearings Based True North, the West Line of the Southwest Quarter of Section 23, T11N, R26E Having a Bearing of N04°09′44″ W.

Dated: June 12, 2017.
Michael S. Black,
Acting Assistant Secretary—Indian Affairs.

[FR Doc. 2017-15007 Filed 7-17-17; 8:45 am]

BILLING CODE 4337-15-P